ENVIRONMENTAL PROTECTION AGENCY

[FRL-9975-06-OA]

Notice of Meeting of the EPA Children's Health Protection Advisory Committee

AGENCY: Environmental Protection Agency (EPA).

ACTION: Notice; meeting.

SUMMARY: Pursuant to the provisions of the Federal Advisory Committee Act, notice is hereby given that the next meeting of the Children's Health Protection Advisory Committee (CHPAC) will be held April 19 and 20, 2018, at Holiday Inn Washington-Capitol 550 C Street SW, Washington, DC 20024.

The CHPAC advises the Environmental Protection Agency on science, regulations, and other issues relating to children's environmental health.

DATES: April 19, 2018, from 10 a.m. to 6 p.m. and April 20, 2018, from 9 a.m. to 1 p.m..

ADDRESSES: 550 C Street SW, Washington, DC 20024.

FOR FURTHER INFORMATION CONTACT: Angela Hackel, Office of Children's Health Protection, U.S. EPA, MC 1107T, 1200 Pennsylvania Avenue NW, Washington, DC 20460, (202) 566-2977 or hackel.angela@epa.gov.

SUPPLEMENTARY INFORMATION: The meetings of the CHPAC are open to the public. An agenda will be posted to epa.gov/children.

ACCESS AND ACCOMMODATIONS: For information on access or services for individuals with disabilities, please contact Angela Hackel at 202-566-2977 or hackel.angela@epa.gov.

Dated: February 21, 2018.
Angela Hackel,
Designated Federal Official.

[FR Doc. 2018-04525 Filed 3-5-18; 8:45 am]

BILLING CODE 6560-50-P